NATIONAL SCIENCE FOUNDATION

Committee on Equal Opportunity in Science and Engineering; Notice of Meeting

In accordance with the Federal Advisory Committee Act (Pub. L. 92-463, as amended), the National Science Foundation announces the following meeting:

Name: Committee on Equal Opportunities in Science and Engineering (1173).

Date/Time: October 12, 2000 (8 a.m.-5 p.m.) and October 13, 2000 (8:30 a.m.-3:30 p.m.).

Place: Room 1295, National Science Foundation, 4201 Wilson Blvd., Arlington, VA

Type of Meeting: Open.

Contact Person: Bernice Anderson, Executive Secretary, CEOSE, National Science Foundation, 4201 Wilson Blvd., Arlington, VA 22230. Phone (703) 292-5151.

Minutes: May be obtained from the Executive Secretary at the above address.

Purpose of Meeting: To advise NSF on policies and activities of the Foundation to encourage full participation of women, minorities, and persons with disabilities currently underrepresented in scientific, engineering, professional, and technical fields and to advise NSF concerning implementation of the provisions of the Science and Engineering Equal Opportunities Act.

Agenda

Thursday October 12, 2000 8:00 a.m.-5:00 p.m.

8:00 a.m.—Breakfast with NSF Staff

8:30 a.m.—Welcome; Approval of June 2000 Minutes

8:45 a.m.—Report of Executive Council Liaison

9:00 a.m.—NSF Workforce Initiative

10:15 a.m.—Directorate for Engineering Dialogue

11:15 a.m.—Glenn Commission, Status Report

1:15 p.m.—Directorate for Social, Behavioral, and Economic Sciences Dialogue

2:15 p.m.—CEOSE 2000 Biennial Report—working session

5:00 p.m.—Adjourn

Friday, October 13, 2000 8:30 a.m.—3:30 p.m.

9:00 a.m.—AAAS Report on Research Needs Related to SME Student and Faculty Diversity in Higher Education

10:00 a.m.—CEOSE 2000 Biennial Report—working session

11:00 a.m.—NSF Deputy Director

1:30 p.m.—CEOSE 2000 Biennial Report—working session

Dated: September 27, 2000.
Karen J. York,
Committee Management Officer.

[FR Doc. 00-25217 Filed 9-29-00; 8:45 am]

BILLING CODE 7555-01-M